COMMISSION ON CIVIL RIGHTS

Corrected Notice of Public Meeting of the New Hampshire Advisory Committee

SUMMARY: On September 7, 2010 (75 FR 54299), the Commission on Civil Rights announced September 21, 2010 as the meeting date for a planning and briefing meeting of the New Hampshire State Advisory Committee.

The date and starting times for these meetings are changed to Monday, September 20, 2010. The meetings will convene at 9 a.m. at the Manchester City Library, 405 Pine Street, Manchester, NH 03104.

The meetings are open to the public.

Peter Minarik,
Acting Chief, Regional Programs Coordination Unit.

[FR Doc. 2010-23121 Filed 9-15-10; 8:45 am]

BILLING CODE 6335-01-P